DEPARTMENT OF COMMERCE

Submission for OMB Review; Comment Request

The Department of Commerce has submitted to the Office of Management and Budget (OMB) for clearance the following proposal for collection of information under the provisions of the Paperwork Reduction Act (44 U.S.C. Chapter 35).

Agency: National Oceanic and Atmospheric Administration (NOAA).

Title: Human Dimensions of Marine Resource Management.

Form Number(s): None.

OMB Approval Number: 0648-0488.

Type of Request: Regular submission.

Burden Hours: 3,000.

Number of Respondents: 4,800.

Average Hours per Response: 38 minutes.

Needs and Uses: In order to address National Environmental Policy Act (NEPA) and Magnuson-Stevens Fishery Conservation and Management Act (MSA) requirements, NOAA Fisheries social scientists must collect a broad range of social, cultural and economic information currently unavailable. NOAA Fisheries social scientists both conduct social science research and apply research findings to fishery management needs. This research is designed to improve social science data related to the human dimensions of fisheries management by: (1) Investigating social, cultural and economic issues/processes related to marine fishery stakeholders including but not limited to commercial and recreational fishermen, subsistence fishermen, fishing vessel owners, fishermen's families, fish processors and processing workers, related fishery support businesses, and fishing communities as defined in MSA section 3(16); (2) improving the current knowledge of baseline information related to marine fishery stakeholders, as described in (1) above; and (3) monitoring and measuring trends among marine fishery stakeholders, as described in (1) above, affected by fishery management decisions.

Affected Public: Business or other for-profit organizations; Individuals or households; Not-for-profit institutions; Federal government; State, local or tribal government.

Frequency: On occasion.

Respondent's Obligation: Voluntary.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, Fax number (202) 395-7285, or David_Rostker@omb.eop.gov.

Dated: February 10, 2005.
Gwellnar Banks,
Management Analyst, Office of the Chief Information Officer.

[FR Doc. 05-3039 Filed 2-16-05; 8:45 am]

BILLING CODE 3510-22-P